DEPARTMENT OF TRANSPORTATION

Federal Aviation Administration

14 CFR Part 39

[Docket No. FAA-2024-2665; Project Identifier AD-2024-00203-T]

RIN 2120-AA64

Airworthiness Directives; The Boeing Company Airplanes

AGENCY: Federal Aviation Administration (FAA), DOT.

ACTION: Notice of proposed rulemaking (NPRM).

SUMMARY: The FAA proposes to supersede Airworthiness Directive (AD) 2016-14-04, which applies to certain The Boeing Company Model 787-8 airplanes. AD 2016-14-04 requires replacing the potable waterline couplings above the forward and aft electronics equipment (EE) bays with new, improved couplings. AD 2016-14-04 also requires sealing the main cabin floor areas above the aft EE bay, installing drip shields and foam blocks, and rerouting the wire bundles near the drip shields above the equipment in the aft EE bay. Since the FAA issued AD 2016-14-04, it was determined that sealant, moisture barrier tape and tape dam requirements above the EE bays may not have been installed on production airplanes. This proposed AD continues to require the actions in AD 2016-14-04 and would require an inspection of seat tracks above the EE bays for missing, damaged, or deteriorated sealant, moisture barrier tape, or tape dams, as applicable, and applicable on-condition actions. This proposed AD also adds airplanes to the applicability. The FAA is proposing this AD to address the unsafe condition on these products.

DATES: The FAA must receive comments on this proposed AD by February 10, 2025.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2024-2665; or in person at Docket Operations between 9 a.m. and 5 p.m., Monday through Friday, except Federal holidays. The AD docket contains this NPRM, any comments received, and other information. The street address for Docket Operations is listed above.

Material Incorporated by Reference:

• For the material identified in this proposed AD, contact Boeing Commercial Airplanes, Attention: Contractual & Data Services (C&DS), 2600 Westminster Blvd., MC 110-SK57, Seal Beach, CA 90740-5600; telephone 562-797-1717; website myboeingfleet.com.

• You may view this material at the FAA, Airworthiness Products Section, Operational Safety Branch, 2200 South 216th St., Des Moines, WA. For information on the availability of this material at the FAA, call 206-231-3195. It is also available at regulations.gov under Docket No. FAA-2024-2665.

FOR FURTHER INFORMATION CONTACT: Courtney Tuck, Aviation Safety Engineer, FAA, 2200 South 216th St., Des Moines, WA 98198; phone: 206-231-3986; email: courtney.k.tuck@faa.gov.

SUPPLEMENTARY INFORMATION:

Comments Invited

The FAA invites you to send any written relevant data, views, or arguments about this proposal. Send your comments to an address listed under the ADDRESSES section. Include “Docket No. FAA-2024-2665; Project Identifier AD-2024-00203-T” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Courtney Tuck, Aviation Safety Engineer, FAA, 2200 South 216th St., Des Moines, WA 98198; phone: 206-231-3986; email: courtney.k.tuck@faa.gov. Any commentary that the FAA receives that is not specifically designated as CBI will be placed in the public docket for this rulemaking.

Background

The FAA issued AD 2016-14-04, Amendment 39-18585 (81 FR 44499, July 8, 2016) (AD 2016-14-04), for certain The Boeing Company Model 787-8 airplanes. AD 2016-14-04 was prompted by reports of water leakage from the potable water system due to improperly installed waterline couplings, and water leaking into the EE bays from above the floor in the main cabin, resulting in water on the equipment in the EE bays. AD 2016-14-04 requires replacing the potable waterline couplings above the forward and aft EE bays with new, improved couplings. AD 2016-14-04 also requires sealing the main cabin floor areas above the aft EE bay, installing drip shields and foam blocks, and rerouting the wire bundles near the drip shields above the equipment in the aft EE bay. The agency issued AD 2016-14-04 to prevent a water leak from an improperly installed potable water system coupling, or main cabin water source, which could cause the equipment in the EE bays to become wet, resulting in an electrical short and potential loss of system functions essential for safe flight.

Actions Since AD 2016-14-04 Was Issued

Since the FAA issued AD 2016-14-04, it was determined that sealant, moisture barrier tape and tape dam requirements above the EE bays may not have been installed on production airplanes. Missing moisture barrier tape, tape dams, and sealant at the end of exposed seat tracks above the forward and aft EE bays could allow water to leak onto equipment located in the EE bay(s) which could result in an electrical short and potential loss of several functions essential for safe flight.

FAA's Determination

The FAA is issuing this NPRM after determining that the unsafe condition described previously is likely to exist or develop on other products of the same type design.

Material Incorporated by Reference Under 1 CFR Part 51

The FAA reviewed Boeing Alert Requirements Bulletin 787-81205-SB530085-00 RB, Issue 001, dated March 6, 2024. This material specifies procedures for a detailed inspection of seat tracks located above the aft EE bays for missing, damaged, or deteriorated sealant, moisture barrier tape, or tape dams, as applicable, and applicable on-condition actions. On-condition actions include applying sealant, moisture barrier tape, and tape dams to each affected area.

The FAA also reviewed the following material:

• Boeing Alert Service Bulletin B787-81205-SB380009-00, Issue 003, dated April 28, 2017, which describes procedures for replacing the existing potable waterline couplings located above the forward and aft EE bays with new, improved couplings, doing a potable water system leak test and repairing any leaks found.

• Boeing Alert Service Bulletin B787-81205-SB530029-00, Issue 003, dated May 6, 2019, which describes procedures for applying sealant to the main cabin floor areas located above the aft EE bay.

• Boeing Alert Service Bulletin B787-81205-SB530031-00, Issue 003, dated April 24, 2017, which describes procedures for installing drip shields and foam blocks, and rerouting the wire bundles near the drip shields above the equipment in the aft EE bay.

This proposed AD would also require the following material, which the Director of the Federal Register approved for incorporation by reference as of August 12, 2016 (81 FR 44499, July 8, 2016):

• Boeing Alert Service Bulletin B787-81205-SB380009-00, Issue 002, dated December 9, 2015.

• Boeing Alert Service Bulletin B787-81205-SB530029-00, Issue 002, dated January 26, 2016.

• Boeing Alert Service Bulletin B787-81205-SB530031-00, Issue 002, dated March 16, 2016.

This material is reasonably available because the interested parties have access to it through their normal course of business or by the means identified in the ADDRESSES section.

Proposed AD Requirements in This NPRM

This proposed AD would retain all requirements of AD 2016-14-04. This proposed AD would add certain Model 787-8, 787-9, and 787-10 airplanes to the applicability. This proposed AD would also require accomplishing the actions specified in the material already described, except for any differences identified as exceptions in the regulatory text of this proposed AD.

For information on the procedures and compliance times, see this material at regulations.gov under Docket No. FAA-2024-2665.

Clarification of Affected Airplanes

Paragraphs (g), (h)(1), and (h)(2) of AD 2016-14-04 specify doing actions in accordance with certain service information. However, the paragraphs apply to all airplanes identified in the applicability and did not limit the paragraphs to airplanes identified in the service information identified in each paragraph. Therefore, in paragraphs (g), (h)(1), and (h)(2) of this AD, the FAA has clarified the affected airplanes for each paragraph.

Costs of Compliance

The FAA estimates that this AD, if adopted as proposed, would affect 64 airplanes of U.S. registry. The FAA estimates the following costs to comply with this proposed AD:

Estimated Costs
Action | Labor cost | Parts cost | Cost per product | Cost on U.S. operators
Retained actions from AD 2016-14-04 | Up to 174 work-hours × $85 per hour = up to $14,790 per inspection cycle | $37,926 | Up to $52,716 | Up to $3,373,824.
Inspection of floor seat track (new proposed action) | 22 work-hours × $85 per hour = $1,870 | 0 | $1,870 | $119,680.

The FAA estimates the following costs to do any necessary on-condition actions that would be required based on the results of the proposed inspection. The agency has no way of determining the number of aircraft that might need this repair:

On-Condition Costs
Action | Labor cost | Parts cost | Cost per product
Applying sealant, moisture barrier tape, or tape dam | 33 work-hours × $85 per hour = $2,805 | $350 | $3,155

The FAA has included all known costs in its cost estimate. According to the manufacturer, however, some or all of the costs of this proposed AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2016-14-04, Amendment 39-18585 (81 FR 44499, July 8, 2016), and

b. Adding the following new AD:

The Boeing Company: Docket No. FAA-2024-2665; Project Identifier AD-2024-00203-T.

(a) Comments Due Date

The FAA must receive comments on this airworthiness directive (AD) by February 10, 2025.

(b) Affected ADs

This AD replaces AD 2016-14-04, Amendment 39-18585 (81 FR 44499, July 8, 2016) (AD 2016-14-04).

(c) Applicability

This AD applies to the airplanes identified in paragraphs (c)(1) and (2) of this AD, certificated in any category.

(1) The Boeing Company Model 787-8, 787-9, and 787-10 airplanes as identified in Boeing Alert Requirements Bulletin 787-81205-SB530085-00 RB, Issue 001, dated March 6, 2024.

(2) The Boeing Company Model 787-8 airplanes, as identified in the service information specified in paragraphs (c)(2)(i) through (iii) of this AD.

(i) Boeing Alert Service Bulletin B787-81205-SB380009-00, Issue 002, dated December 9, 2015.

(ii) Boeing Alert Service Bulletin B787-81205-SB530029-00, Issue 002, dated January 26, 2016.

(iii) Boeing Alert Service Bulletin B787-81205-SB530031-00, Issue 002, dated March 16, 2016.

(d) Subject

Air Transport Association (ATA) of America Code 38, water waste; 53, Fuselage.

(e) Unsafe Condition

This AD was prompted by reports of water leakage from the potable water system due to improperly installed waterline couplings, and water leaking into the electronics equipment (EE) bays from above the floor in the main cabin, resulting in water on the equipment in the EE bays. In addition, after AD 2016-14-04 was issued, it was determined that sealant, moisture barrier tape and tape dam requirements above the EE bays may not have been installed on production airplanes. A water leak from an improperly installed potable water system coupling, or main cabin water source, if not addressed, could cause the equipment in the EE bays to become wet, resulting in an electrical short and potential loss of system functions essential for safe flight.

(f) Compliance

Comply with this AD within the compliance times specified, unless already done.

(g) Retained Replacement of Potable Waterline Couplings, With Revised Service Information

This paragraph restates the requirements of paragraph (g) of AD 2016-14-04, with revised service information. For airplanes identified in Boeing Alert Service Bulletin B787-81205-SB380009-00, Issue 002, dated December 9, 2015: Within 24 months after August 12, 2016 (the effective date of AD 2016-14-04), replace the existing potable waterline couplings located above the forward and aft EE bays with new, improved couplings, in accordance with the Accomplishment Instructions of Boeing Alert Service Bulletin B787-81205-SB380009-00, Issue 002, dated December 9, 2015; or Boeing Alert Service Bulletin B787-81205-SB380009-00, Issue 003, dated April 28, 2017. Before further flight after doing the replacement, do a potable water system leak test and repair any leaks found before further flight, in accordance with the Accomplishment Instructions of Boeing Alert Service Bulletin B787-81205-SB380009-00, Issue 002, dated December 9, 2015; or Boeing Alert Service Bulletin B787-81205-SB380009-00, Issue 003, dated April 28, 2017. As of the effective date of this AD, only use Boeing Alert Service Bulletin B787-81205-SB380009-00, Issue 003, dated April 28, 2017, for the actions required by this paragraph.

(h) Retained Seal Floor Panels and Seat Tracks/Install Drip Shields and Reroute Wiring, With Revised Service Information

This paragraph restates the requirements of paragraph (h) of AD 2016-14-04, with revised service information. Within 60 months after August 12, 2016 (the effective date of AD 2016-14-04), do the actions specified in paragraphs (h)(1) and (2) of this AD, as applicable.

(1) For airplanes identified in Boeing Alert Service Bulletin B787-81205-SB530029-00, Issue 002, dated January 26, 2016: Apply sealant to the main cabin floor areas located above the aft EE bay, in accordance with the Accomplishment Instructions of Boeing Alert Service Bulletin B787-81205-SB530029-00, Issue 002, dated January 26, 2016; or Boeing Alert Service Bulletin B787-81205-SB530029-00, Issue 003, dated May 6, 2019. As of the effective date of this AD, only use Boeing Alert Service Bulletin B787-81205-SB530029-00, Issue 003, dated May 6, 2019, for the actions required by this paragraph.

(2) For airplanes identified in Boeing Alert Service Bulletin B787-81205-SB530031-00, Issue 002, dated March 16, 2016: Install drip shields and foam blocks, and reroute the wire bundles above the equipment in the aft EE bay, in accordance with the Accomplishment Instructions of Boeing Alert Service Bulletin B787-81205-SB530031-00, Issue 002, dated March 16, 2016; or Boeing Alert Service Bulletin B787-81205-SB530031-00, Issue 003, dated April 24, 2017, except as specified in paragraph (i) of this AD. As of the effective date of this AD, only use Boeing Alert Service Bulletin B787-81205-SB530031-00, Issue 003, dated April 24, 2017, for the actions required by this paragraph.

(i) Retained Exception to Certain Service Information, With No Changes

This paragraph restates the requirements of paragraph (i) of AD 2016-14-04, with no changes. Where Boeing Alert Service Bulletin B787-81205-SB530031-00, Issue 002, dated March 16, 2016, specifies “Group 6, Configuration 1” airplanes in reference to Task 29, the correct airplane group identification is “Group 7, Configuration 1” airplanes.

(j) New Required Actions

For airplanes identified in Boeing Alert Requirements Bulletin B787-81205-SB530085-00 RB, Issue 001, dated March 6, 2024: Except as specified by paragraph (k) of this AD, at the applicable times specified in the “Compliance” paragraph of Boeing Alert Requirements Bulletin B787-81205-SB530085-00 RB, Issue 001, dated March 6, 2024, do all applicable actions identified in, and in accordance with, the Accomplishment Instructions of Boeing Alert Requirements Bulletin B787-81205-SB530085-00 RB, Issue 001, dated March 6, 2024.

Note 1 to paragraph (j): Guidance for accomplishing the actions required by this AD can be found in Boeing Alert Service Bulletin B787-81205-SB530085-00, Issue 001, dated March 6, 2024, which is referred to in Boeing Alert Requirements Bulletin B787-81205-SB530085-00 RB, Issue 001, dated March 6, 2024.

(k) Exceptions to Requirements Bulletin Specifications

Where the Boeing Recommended Compliance Time columns of the tables in the “Compliance” paragraph of Boeing Alert Requirements Bulletin B787-81205-SB530085-00 RB, Issue 001, dated March 6, 2024, refer to the Issue 001 date of the Requirements Bulletin B787-81205-SB530085-00 RB, this AD requires using the effective date of this AD.

(l) Credit for Previous Actions

This paragraph provides credit for the corresponding actions specified in paragraphs (g) and (h) of this AD, if those actions were performed before August 12, 2016 (the effective date of AD 2016-14-04) using the applicable service information specified in paragraphs (l)(1) through (3) of this AD.

(1) Boeing Alert Service Bulletin B787-81205-SB380009-00, Issue 001, dated March 26, 2015.

(2) Boeing Alert Service Bulletin B787-81205-SB530029-00, Issue 001, dated March 26, 2015.

(3) Boeing Alert Service Bulletin B787-81205-SB530031-00, Issue 001, dated March 26, 2015.

(m) Alternative Methods of Compliance (AMOCs)

(1) The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of the certification office, send it to the attention of the person identified in paragraph (n)(1) of this AD. Information may be emailed to: AMOC@faa.gov.

(2) Before using any approved AMOC, notify your appropriate principal inspector, or lacking a principal inspector, the manager of the responsible Flight Standards Office.

(3) An AMOC that provides an acceptable level of safety may be used for any repair, modification, or alteration required by this AD if it is approved by The Boeing Company Organization Designation Authorization (ODA) that has been authorized by the Manager, AIR-520, Continued Operational Safety Branch, FAA, to make those findings. To be approved, the repair method, modification deviation, or alteration deviation must meet the certification basis of the airplane, and the approval must specifically refer to this AD.

(4) AMOCs approved for AD 2016-14-04 are approved as AMOCs for the corresponding provisions of paragraphs (g) and (h) of this AD.

(5) For material that contains steps that are labeled as Required for Compliance (RC), the provisions of paragraphs (m)(5)(i) and (ii) of this AD apply.

(i) The steps labeled as RC, including substeps under an RC step and any figures identified in an RC step, must be done to comply with the AD. If a step or substep is labeled “RC Exempt,” then the RC requirement is removed from that step or substep. An AMOC is required for any deviations to RC steps, including substeps and identified figures.

(ii) Steps not labeled as RC may be deviated from using accepted methods in accordance with the operator's maintenance or inspection program without obtaining approval of an AMOC, provided the RC steps, including substeps and identified figures, can still be done as specified, and the airplane can be put back in an airworthy condition.

(n) Related Information

(1) For more information about this AD, contact Courtney Tuck, Aviation Safety Engineer, FAA, 2200 South 216th St., Des Moines, WA 98198; phone: 206-231-3986; email: courtney.k.tuck@faa.gov.

(2) Material identified in this AD that is not incorporated by reference is available at the address specified in paragraph (o)(5) of this AD.

(o) Material Incorporated by Reference

(1) The Director of the Federal Register approved the incorporation by reference of the material listed in this paragraph under 5 U.S.C. 552(a) and 1 CFR part 51.

(2) You must use this material as applicable to do the actions required by this AD, unless the AD specifies otherwise.

(3) The following material was approved for IBR on [DATE 35 DAYS AFTER PUBLICATION OF THE FINAL RULE].

(i) Boeing Alert Requirements Bulletin B787-81205-SB530085-00 RB, Issue 001, dated March 6, 2024.

(ii) Boeing Alert Service Bulletin B787-81205-SB380009-00, Issue 003, dated April 28, 2017.

(iii) Boeing Alert Service Bulletin B787-81205-SB530029-00, Issue 003, dated May 6, 2019.

(iv) Boeing Alert Service Bulletin B787-81205-SB530031-00, Issue 003, dated April 24, 2017.

(4) The following material was approved for IBR on August 12, 2016 (81 FR 44499, July 8, 2016).

(i) Boeing Alert Service Bulletin B787-81205-SB380009-00, Issue 002, dated December 9, 2015.

(ii) Boeing Alert Service Bulletin B787-81205-SB530029-00, Issue 002, dated January 26, 2016.

(iii) Boeing Alert Service Bulletin B787-81205-SB530031-00, Issue 002, dated March 16, 2016.

(5) For the material identified in this AD, contact Boeing Commercial Airplanes, Attention: Contractual & Data Services (C&DS), 2600 Westminster Blvd., MC 110-SK57, Seal Beach, CA 90740-5600; telephone 562-797-1717; website myboeingfleet.com.

(6) You may view this material at the FAA, Airworthiness Products Section, Operational Safety Branch, 2200 South 216th St., Des Moines, WA. For information on the availability of this material at the FAA, call 206-231-3195.

(7) You may view this material at the National Archives and Records Administration (NARA). For information on the availability of this material at NARA, visit www.archives.gov/federal-register/cfr/ibr-locations or email fr.inspection@nara.gov.

Issued on December 16, 2024.
Suzanne Masterson,
Deputy Director, Integrated Certificate Management Division, Aircraft Certification Service.

[FR Doc. 2024-30669 Filed 12-23-24; 8:45 am]

BILLING CODE 4910-13-P